DEPARTMENT OF THE INTERIOR

National Park Service

[9921-9855-409]

Notice of Intent To Prepare an Environmental Impact Statement on a General Management Plan Amendment/Wilderness Study for Lake Clark National Park and Preserve

AGENCY: National Park Service, Interior.

ACTION: Notice.

SUMMARY: Pursuant to the National Environmental Policy Act of 1969 (42 U.S.C. 4332(C)), and the Wilderness Act of 1964 (16 U.S.C. 1131 et seq.), the National Park Service (NPS) is preparing an environmental impact statement for a general management plan amendment, including a wilderness study, for Lake Clark National Park and Preserve, Alaska. The environmental impact statement will be approved by the Regional Director, Alaska Region.

The general management plan amendment will establish the overall direction for both the park and preserve (referred to hereafter as the park), setting broad management goals for managing the area during the next 15 to 20 years. The plan will prescribe desired resource conditions and visitor experiences that are to be achieved and maintained throughout the park based on such factors as the park's purpose, significance, special mandates, the body of laws and policies directing park management, resource analysis, and the range of public expectations and concerns. The plan also will outline the kinds of resource management activities, visitor activities, and developments that would be appropriate in the park in the future. In addition, the plan will generally address visitor-use related issues and provide management direction for the three designated wild rivers within the park. The wilderness study will evaluate portions of Lake Clark National Park and Preserve for possible designation as wilderness. The wilderness study will be included as part of the general management plan.

A range of reasonable alternatives for managing the park will be developed through this planning process and will include, at a minimum, a no-action and an NPS-preferred alternative. Major issues the plan will address include: Visitor access and use of the park; the adequacy and sustainability of existing visitor facilities and park operations; and the management of wilderness, natural and cultural resources, commercial services, and cabins. The environmental impact statement will evaluate the potential environmental impacts of the alternative management approaches and the possible designation of wilderness within the park.

All interested persons, organizations, and agencies are encouraged to submit comments and suggestions on issues and concerns that should be addressed in the general management plan amendment/wilderness study/environmental impact statement, and the range of appropriate alternatives that should be examined.

DATES: Public scoping will begin in Spring 2011 via a newsletter to state and federal agencies; associated American Indian tribes; associated Native corporations; neighboring communities; borough commissioners; local organizations, researchers and institutions; the congressional delegation; and other interested members of the public. Public scoping meetings regarding the general management plan amendment will be held in Spring 2011 in Anchorage, Soldotna, and Homer and in the resident zone communities of Port Alsworth, Nondalton, Pedro Bay, and Newhalen. Specific dates, times, and locations will be announced in the local media, on the Internet at http://www.nps.gov/lacl, and will also be available by contacting the park/preserve headquarters. In addition to attending the scoping meetings, people wishing to provide input may mail or e-mail comments to the park/preserve at the address below.

Written comments concerning the scope of the general management plan amendment/wilderness study/environmental impact statement will be accepted for 60 days from the publication of this notice.

ADDRESSES: Comments on issues and opportunities associated with the plan may be submitted by several methods. You may comment via the Internet to http://parkplanning.nps.gov/lacl. You may also mail or hand-deliver comments to Lake Clark National Park and Preserve, 240 W. 5th Avenue, Suite 236, Anchorage, AK 99501. Requests to be added to the mailing list should be directed to the above address.

FOR FURTHER INFORMATION CONTACT: Joel Hard, Superintendent, Lake Clark National Park and Preserve, 240 W. 5th Avenue, Suite 236, Anchorage, AK 99501 at the address above. Telephone: 907-644-3626. General information about Lake Clark National Park and Preserve is available on the Internet at http://www.nps.gov/lacl.

SUPPLEMENTARY INFORMATION: Before including your address, phone number, e-mail address, or other personal identifying information in your comment, you should be aware that your entire comment—including your personal identifying information—may be made publicly available at any time. While you can ask us in your comment to withhold your personal identifying information from public review, we cannot guarantee that we will be able to do so.

Sue E. Masica,
Regional Director, Alaska.

[FR Doc. 2011-13242 Filed 5-27-11; 8:45 am]

BILLING CODE 4312-GY-P